ENVIRONMENTAL PROTECTION AGENCY

40 CFR Part 300

[FRL-7266-1]

National Oil and Hazardous Substances Pollution Contingency Plan; National Priorities List

AGENCY: Environmental Protection Agency (EPA).

ACTION: Notice of deletion for the Facility Area portion of the A.O. Polymer Site from the National Priorities List.

SUMMARY: The U.S. Environmental Protection Agency, Region II announces the deletion of the Facility Area portion of the A.O. Polymer Site (Site) located in Sussex County, New Jersey, from the National Priorities List (NPL). The NPL constitutes appendix B to 40 CFR part 300, which is the National Oil and Hazardous Substances Pollution Contingency Plan (NCP), which EPA promulgated pursuant to section 105 of the Comprehensive Environmental Response, Compensation, and Liability Act (CERCLA). EPA and the State of New Jersey, through the Department of Environmental Protection, have determined that all appropriate response actions under CERCLA, as amended, have been implemented at the Facility Area portion of the Site and that no further response action by responsible parties is appropriate. This partial deletion pertains only to the Facility Area portion of the Site and does not include the other portions of the Site, which will remain on the NPL.

EFFECTIVE DATE: August 26, 2002.

FOR FURTHER INFORMATION CONTACT: Jeff Catanzarita, Remedial Project Manager, U.S. Environmental Protection Agency, Region II, 290, Broadway, 19th Floor, New York, NY 10007-1866, (212) 637-4409.

SUPPLEMENTARY INFORMATION: The Facility Area portion of the A.O. Polymer Site is located at 44 Station Road in the Township of Sparta, Sussex County, New Jersey. The Site has two portions: The Facility Area and the Disposal Area. The Disposal Area is located in the northeast corner of the Site and is separated from the Facility Area by a dirt road. The Disposal Area and groundwater contamination by the Site are undergoing cleanup and will remain on the NPL.

A Notice of Intent to Delete for the Facility Area portion was published in the Federal Register on June 20, 2002 (67 FR 41914). The closing date for comments on the Notice of Intent to Delete was July 20, 2002. EPA received no comments regarding this deletion. The Deletion Docket may be reviewed at the EPA Region II office in New York, New York, the Sparta Township Library, Sparta, New Jersey, and the New Jersey Department of Environmental Protection office in Trenton, New Jersey.

The NPL is a list maintained by EPA of sites that EPA has determined present a significant risk to human health, welfare, or the environment. Pursuant to 40 CFR 300.425(e) of the NCP, any site or portion of a site deleted from the NPL remains eligible for Fund-financed remedial actions if conditions at the site warrant such action. Deletion of a portion of a site from the NPL does not affect responsible party liability or impede agency efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: August 12, 2002.
Jane M. Kenny,
Regional Administrator, Region II.

For the reasons set out in the preamble, 40 CFR part 300 is amended as follows:

PART 300—[AMENDED]

1. The authority citation for part 300 continues to read as follows:

Authority: 42 U.S.C. 9601-9657; 33 U.S.C. 1321(c)(2); E.O.12777, 56 FR 54757, 3 CFR 1991 Comp., p.351; E.O. 12580, 52 FR 2923; 3 CFR, 1987 Comp., p. 193.

2. Table 1 of appendix B to part 300 is amended under the State of New Jersey (NJ) by revising the entry for “A.O. Polymer”.

Appendix B to Part 300—National Priorities List

Table 1.—General Superfund Section
State | Site name | City/County | Notes(a)
| * * * * * * *
NJ | A.O. Polymer | Sparta/Sussex | P
| * * * * * * *
(a) * * *
P = Sites with partial deletion(s).

[FR Doc. 02-21439 Filed 8-23-02; 8:45 am]

BILLING CODE 6560-50-P